ENVIRONMENTAL PROTECTION AGENCY

[FRL-6605-5]

Peer Review Meeting on the Draft Guidance Document Entitled: Human Health Risk Assessment Protocol for Hazardous Waste Combustion Facilities (Peer Review Draft, July 1998)

AGENCY: Environmental Protection Agency.

ACTION: Notice of peer review panel meeting.

SUMMARY: The Environmental Protection Agency's (“EPA” or “the Agency”) contractor, Tech Law, is announcing a meeting for the external, scientific peer review of the EPA draft guidance document entitled: Human Health Risk Assessment Protocol for Hazardous Waste Combustion Facilities (Peer Review Draft, July 1998—EPA530-D-98-001A, B, & C) and the update to the document entitled: Errata dated August 2, 1999. The meeting will be organized, convened and conducted by Tech Law and will be held on May 24 and 25, 2000 in Dallas, Texas at the EPA Region VI building. Given the interest expressed by members of the public concerning this guidance document, the meeting will be open to the public for observation. The purpose of the meeting is to afford an opportunity for the members of Tech Law's review panel to present their individual peer review comments and discuss scientific and technical issues related to this guidance with other technical experts. All peer review comments will be incorporated into a summary by Tech Law and presented to EPA as recommendations. Tech Law's recommendations will be considered by the Agency during finalization of the document.

Background

This EPA document, Human Health Risk Assessment Protocol for Hazardous Waste Combustion Facilities (HHRAP), is a three volume set of guidance for performing risk assessments on hazardous waste combustion facilities. Risk assessments can provide a basis for risk management decisions in hazardous waste combustor permitting to ensure that the permits are protective of human health and the environment. This guidance was released via Federal Register on Friday, October 30, 1998 (63 FR 58381-58382). It updated and replaced an earlier draft guidance entitled: “Guidance for Performing Screening Level Risk Analyses at Combustion Facilities Burning Hazardous Wastes” (April 15, 1994 draft). This new guidance was prepared by EPA's Region VI Center for Combustion Science and Engineering in coordination with the Office of Solid Waste (OSW). The guidance contains the OSW's recommended approach for conducting site-specific risk assessments on RCRA hazardous waste combustors. This guidance includes recommended parameters, pathways and algorithms to evaluate both direct and indirect risks.

The goal of the Agency's peer review process is to enhance the quality and credibility of Agency decision-making by ensuring that the scientific and technical work products relied on as part of the decision-making process receive the appropriate level of review by independent, scientific and technical experts. EPA has selected a contractor, Tech Law Inc., to conduct a comprehensive peer review of this guidance document. To that end, Tech Law, has selected nine independent experts reviewers that have not participated in the development of the document. The peer review panel is comprised of specialists which represent scientific disciplines generally covered in the HHRAP. The scientific disciplines chosen consist of combustion engineering, air dispersion modeling, fate and transport, human health exposure assessment, and human health toxicology.

The peer reviewers have been asked to respond to charge questions about the guidance document. Two types of charge statements were issued to the reviewers. All of the reviewers were asked to reply to charge questions which were general in nature. In addition, each expert was charged with specific technical questions which relate to their specialty. A number of the technical questions charged to the reviewers were chosen directly from public comments received on the guidance. To obtain or view copies of the human health risk assessment guidance document, the charges to the peer reviewers, the pre-meeting comments from the peer reviewers, or the public comments received on the document, see the supplementary information section below.

DATES: The meeting will begin on Wednesday, May 24 and end on Thursday, May 25, 2000. It will start at 8:30 am and end at 5:00 pm, daily.

ADDRESSES: The meeting will be held at EPA's Region VI building, at Fountain Place, 1445 Ross Avenue Dallas, Texas. Since seating capacity is limited, please contact Antoinette Todd of Tech Law, by telephone at (214) 953-0045, or by E-mail at ATodd@Techlawinc.com by May 19, 2000 at 4:30 pm (central time) to reserve a seat at the workshop as an observer. Seating space will be filled on a first-come, first-served basis. A limited amount of time at the end of each afternoon will be reserved for comments from the observers. Observers who wish to make a short presentation to the peer review panel (limited to 5 minutes in length) should register with Tech Law by May 19 at 4:30 pm (central time), as well. The amount of time allocated for each observer making comment may changed at the discretion of Tech Law, depending on the meeting circumstances. It is expected that all public statements presented at this meeting will not repeat any previously submitted oral or written statements. Comments should focus on the scientific and technical aspects of the document and the proceedings of the meeting. Since commenting time is limited, it will be filled on a first-come, first-served basis.

FOR FURTHER INFORMATION CONTACT: For technical and logistical inquires, contact Steve Cowan, of Tech Law by telephone, at (214) 953-0045; facsimile at (214) 754-0819; or by E-mail at SCowan@Techlawinc.com.

SUPPLEMENTARY INFORMATION: Copies of the (1) draft guidance document, Human Health Risk Assessment Protocol for Hazardous Waste Combustion Facilities (HHRAP); (2) Errata; (3) public comments received on the document; (4) peer review charges; and (5) peer review pre-meeting comments can be viewed or requested as follows.

The HHRAP, Errata, peer review charges can be viewed on the world wide web at http://www.epa.gov/epaoswer/hazwaste/combust/risk.htm. The peer review pre-meeting comments will be available after May 11, 2000.

For paper copies of the above listed documents, in addition to the public comments on the guidance, contact the RCRA Information Center (RIC), by telephone at (703) 603-9230, or by mail at Office of Solid Waste (5305G), U.S. Environmental Protection Agency Headquarters (EPA, HQ) Ariel Rios Building 1200 Pennsylvania Ave. N.W. Washington, DC 20460. For the a copy of the HHRAP, please reference the document numbers, EPA530-D-98-001A for volume 1, EPA530-D-98-001B for volume 2, and EPA530-D-98-001C for volume 3. The HHRAP is also available in a CD-ROM version.

In addition, the documents will be made available for public viewing from 9 a.m. to 4 p.m. Monday through Friday (except Federal holidays) in the RIC, located at Crystal Gateway One, 1235 Jefferson Davis Highway, First Floor, Arlington Virginia. To review docket materials, the public must make an appointment by calling (703) 603-9230 and reference the docket identification number, F-98-HHRA-FFFFF. The public may copy a maximum of 100 pages from any regulatory docket at no charge. Additional copies cost $0.15 per page. The docket index and notice are available electronically.

Dated: May 3, 2000.
Matthew Hale,
Acting Director, Office of Solid Waste.

[FR Doc. 00-11817 Filed 5-10-00; 8:45 am]

BILLING CODE 6560-50-P